NATIONAL CREDIT UNION ADMINISTRATION

Revisions of Agency Information Collections for Comments Request: Proposed Collections

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before November 13, 2023 to be assured consideration.

ADDRESSES: Interested persons are invited to submit written comments on the information collection to Mahala Vixamar, National Credit Union Administration, 1775 Duke Street, Alexandria, Virginia 22314, Suite 5067; Fax No. 703-519-8579; or Email at PRAComments@NCUA.gov.

FOR FURTHER INFORMATION CONTACT: Copies of the submission may be obtained by contacting Mahala Vixamar at (703) 718-1155.

SUPPLEMENTARY INFORMATION:

OMB Number: 3133-0004.

Title: NCUA Call Report.

Type of Review: Revision of a currently approved collection.

Abstract: Sections 106 and 202 of the Federal Credit Union Act require federally insured credit unions (FICUs) to make financial reports to the NCUA. Section 741.6 of the NCUA Rules and Regulations requires all FICUs to submit a Call Report quarterly. Financial information collected through the Call Report is essential to NCUA supervision of federal credit unions. This information also facilitates NCUA monitoring of other credit unions with share accounts insured by the National Credit Union Share Insurance Fund (NCUSIF).

Affected Public: Private Sector: Not-for-profit institutions.

Estimated Total Annual Burden Hours: 81,552.

Reason for Change: There are proposed changes to the Call Report to add two accounts. These accounts will collect the number and amount of loans to borrowers experiencing financially difficulty who are not in compliance with the modified loan terms. Furthermore, another account will collect the allowance for credit losses on available-for-sale debt securities.

OMB Number: 3133-0040.

Title: Federal Credit Union Occupancy, Planning, and Disposal of Acquired and Abandoned Premises—12 CFR 701.36.

Type of Review: Extension of a previously approved collection.

Abstract: Section 107(4) of the Federal Credit Union Act authorizes a federal credit union (FCU) to purchase, hold, and dispose of property necessary or incidental to its operations. Section 701.36 of NCUA Rules and Regulations interprets and implements this provision of the FCU Act by establishing occupancy, planning, and disposal requirements for acquired and abandoned premises. It also prohibits certain transactions. In addition, this section includes provisions in which an FCU may seek a waiver from certain requirements of the rule. NCUA reviews written waiver requests and makes a determination on the request based on safety and soundness considerations.

Affected Public: Private Sector: Not-for-profit institutions.

Estimated Total Annual Burden Hours: 30.

OMB Number: 3133-0067.

Title: Corporate Credit Union Monthly Call Report and Annual Report of Officers.

Type of Review: Revision of a currently approved collection.

Abstract: Section 202(a)(1) of the Federal Credit Union Act (Act) requires federally insured credit unions to make reports of condition to the NCUA Board upon dates selected by it. Corporate credit unions report this information monthly on NCUA Form 5310, also known as the Corporate Credit Union Call Report. The financial and statistical information is essential to NCUA in carrying out its responsibility for supervising corporate credit unions. The Federal Credit Union Act, 12 U.S.C. 1762, specifically requires federal credit unions to report the identity of credit union officials. Section 741.6(a) requires federally-insured credit unions to submit a Report of Officials annually to NCUA containing the annual certification of compliance with security requirements. The branch information is requested under the authority of § 741.6 of the NCUA Rules and Regulations. NCUA utilizes the information to monitor financial conditions in corporate credit unions, and to allocate supervision and examination resources.

Affected Public: Private Sector: Not-for-profit institutions.

Estimated Total Annual Burden Hours: 539.

Reason for Change: The 5310 Corporate Call Report, Profile, and Corporate Financial Performance Reports (CFPR) for calendar year 2024 have several changes that entail removal of references to Current Expected Credit Loss (CECL) early adoption language; removal of the Available for Sale Book Value references; additional supplemental information for charitable donation accounts, subordinated debt purchased from member credit unions, and additional information about CUSO investments; additional liquidity, weighted average life (WAL), and WAL with 50 percent prepayment information reporting, and Federal Reserve Bank Excess Balance Account reporting; clarification of Information System and Technology questions on the Profile form; and corresponding updates to the Corporate Financial Performance Report (CFPR), including a new template for aggregate CFPRs that shows weighted average ratios.

OMB Number: 3133-0127.

Title: Purchase, Sale, and Pledge of Eligible Obligations—12 CFR 701.23.

Type of Review: Revision of a currently approved collection.

Abstract: Section 701.23 authorizes Federal Credit Unions to sell and pledge loans and purchase eligible obligations from other institutions.

Affected Public: Private Sector: Not-for-profit institutions.

Estimated Total Annual Burden Hours: 12,748.

OMB Number: 3133-0189.

Title: Contractor Budget and Representations and Certifications.

Type of Review: Extension of a previously approved collection.

Abstract: Standardized information from prospective outside counsel is essential to the NCUA in carrying out its responsibility as regulator, conservator, and liquidating agent for federally insured credit unions. The information will enable the NCUA to further standardize the data it uses to select outside counsel, consider additional criteria in making its selections, and improve efficiency and recordkeeping related to its selection process.

Affected Public: Private Sector: Not-for-profit institutions.

Estimated Total Annual Burden Hours: 200.

OMB Number: 3133-0199.

Title: Capital Planning and Stress Testing, 12 CFR 702-E.

Type of Review: Revision of a currently approved collection.

Abstract: To protect the National Credit Union Share Insurance Fund (NCUSIF) and the credit union system, the largest Federally Insured Credit Unions (FICUs) need to have systems and processes in place to monitor and maintain their capital adequacy. Subpart C of Part 702 of NCUA's regulations codifies the capital planning and stress testing requirements for federally insured credit unions with $10 billion or more in assets (covered credit unions). NCUA issues these regulations under the authority of Section 120(a) requiring their supervised institutions to conduct annual stress tests. Stress testing is needed to assess the potential impact of expected and stressed economic conditions on the consolidated earnings, losses, and capital of a covered credit union over the planning horizon, taking into account the current state of the covered credit union and the covered credit union's risks, exposures, strategies, and activities.

Affected Public: Private Sector: Not-for-profit institutions.

Estimated Total Annual Burden Hours: 9,380.

Reason for Change: Burden increased due to the increase in the number of credit unions meeting the asset size threshold for capital planning and self-run stress testing and because of the updated self-run SST results reporting template, as well as reporting of internal capital analysis results on the updated template.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-19585 Filed 9-11-23; 8:45 am]

BILLING CODE 7535-01-P